ENVIRONMENTAL PROTECTION AGENCY

40 CFR Part 52

[EPA-R09-OAR-2016-0240; FRL-9950-74-Region 9]

Approval and Limited Approval and Limited Disapproval of Air Quality Implementation Plans; California; Northern Sonoma County Air Pollution Control District; Stationary Source Permits

AGENCY: Environmental Protection Agency (EPA).

ACTION: Final rule.

SUMMARY: The Environmental Protection Agency (EPA) is finalizing action on five permitting rules submitted as a revision to the Northern Sonoma County Air Pollution Control District (NSCAPCD or District) portion of the applicable state implementation plan (SIP) for the State of California pursuant to requirements under the Clean Air Act (CAA or Act). We are finalizing a limited approval and limited disapproval of two rules; we are finalizing approval of the remaining three permitting rules; and we are deleting three rules. The amended rules govern the issuance of permits for stationary sources, including review and permitting of minor sources, major sources and major modifications under part C of title I of the Act. The limited disapproval actions trigger an obligation for EPA to promulgate a Federal Implementation Plan (FIP) for the specific New Source Review (NSR) program deficiencies unless California submits and we approve SIP revisions that correct the deficiencies within two years of the final action.

DATES: This rule will be effective on November 7, 2016.

ADDRESSES: The EPA has established a docket for this action under Docket No. EPA-R09-OAR-2016-0240. All documents in the docket are listed on the http://www.regulations.gov Web site. Although listed in the index, some information is not publicly available, e.g., CBI or other information whose disclosure is restricted by statute. Certain other material, such as copyrighted material, is not placed on the Internet and will be publicly available only in hard copy form. Publicly available docket materials are available through http://www.regulations.gov, or please contact the person identified in the FOR FURTHER INFORMATION CONTACT section for additional availability information.

FOR FURTHER INFORMATION CONTACT: Laura Yannayon, by phone: (415) 972-3534 or by email at yannayon.laura@epa.gov.

SUPPLEMENTARY INFORMATION: Throughout this document, the terms “we,” “us,” and “our” refer to EPA.

Table of Contents

I. Proposed Action

II. EPA Action

III. Incorporation by Reference

IV. Statutory and Executive Order Reviews

I. Proposed Action

On May 19, 2016 (81 FR 31567), the EPA proposed a limited approval and limited disapproval (LA/LD) or a full approval (as noted in the table) of the following rules that were submitted for incorporation into the Northern Sonoma County portion of the California SIP.

Table 1—Submitted NSR Rules
Rule No. | Rule title | Amended | Submitted | Proposed action
130 | Definitions | 11/14/14 | 12/11/14 | LA/LD.
200 | Permit Requirements | 11/14/14 | 12/11/14 | Full Approval.
220 | New Source Review | 11/14/14 | 12/11/14 | LA/LD.
230 | Action on Applications | 11/14/14 | 12/11/14 | Full Approval.
240 | Permit to Operate | 2/22/84 | 10/16/85 | Full Approval.

We proposed a full approval of Rules 200, 230 and 240 because we determined that these rules improve the SIP and are consistent with the relevant CAA requirements. We proposed a limited approval of Rules 130 and 220 because we determined that these rules improve the SIP and are largely consistent with the relevant CAA requirements. We simultaneously proposed a limited disapproval of Rules 130 and 220 because some rule provisions conflict with section 110 and part C of the Act. These provisions include the following:

A. The definition of Significant in Rule 130 does not include lead as a pollutant or provide a significant emission rate. The rule also does not provide a public notice threshold for lead.

B. Rule 220 does not contain any provisions specifying that required air quality modeling shall be based on the applicable models, databases, and other requirements specified in Part 51 Appendix W; therefore, the requirements of 40 CFR 51.160(f) and 51.166(l) have not been meet.

C. The text in Rule 220, Subsection (b)(3) contains a significant typographical error (the word “not” is missing) concerning the requirements pertaining to stack height.

D. The requirements of 40 CFR 51.166(r)(1) and (2), regarding sources obligations, have not been met because the rule does not include the specific language required by these provisions.

We also proposed to remove existing Rules 10, 12 and 18 from the SIP, as the submitted rules replaced the content of these rules. Our proposed action contains more information on the basis for this rulemaking and on our evaluation of the submittal.

II. EPA Action

No comments were submitted. Therefore, as authorized in sections 110(k)(3) and 301(a) of the Act, the EPA is finalizing a limited approval of Rules 130 and 220 and a full approval of Rules 200, 230 and 240. We are also deleting Rules 10, 12 and 18 from the Northern Sonoma County portion of the California SIP. This action incorporates the submitted rules into the Northern Sonoma County portion of the California SIP, including those provisions identified as deficient. As authorized under section 110(k)(3) and 301(a), the EPA is simultaneously finalizing a limited disapproval of Rules 130 and 220.

As a result, the EPA must promulgate a federal implementation plan under section 110(c) unless we approve subsequent SIP revisions that correct the rule deficiencies within 24 months.

In addition, because we are finalizing our proposed action, the California Infrastructure SIP deficiencies identified in our April 2016 (81 FR 18766) rulemaking with respect to Northern Sonoma County APCD for the 1997 and 2006 PM2.5 NAAQS are remedied. Therefore we are updating the Northern Sonoma County portion of the California SIP accordingly.

III. Incorporation by Reference

In this rule, the EPA is finalizing regulatory text that includes incorporation by reference. In accordance with requirements of 1 CFR 51.5, the EPA is finalizing the incorporation by reference of the NSCAPCD rules described in the amendments to 40 CFR part 52 set forth below. The EPA has made, and will continue to make, these documents generally available electronically through www.regulations.gov and in hard copy at the U.S. Environmental Protection Agency, Region IX (Air-3), 75 Hawthorne Street, San Francisco, CA 94105-3901.

IV. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Paperwork Reduction Act (PRA)

This action does not impose an information collection burden under the PRA because this action does not impose additional requirements beyond those imposed by state law.

C. Regulatory Flexibility Act (RFA)

I certify that this action will not have a significant economic impact on a substantial number of small entities under the RFA. This action will not impose any requirements on small entities beyond those imposed by state law.

D. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

E. Executive Order 13132: Federalism

This action does not have federalism implications. It will not have substantial direct effects on the states, on the relationship between the national government and the states, or on the distribution of power and responsibilities among the various levels of government.

F. Executive Order 13175: Coordination With Indian Tribal Governments

This action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Population

The EPA lacks the discretionary authority to address environmental justice in this rulemaking.

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by December 5, 2016. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Carbon monoxide, Nitrogen dioxide, Ozone, Particulate matter, Sulfur oxides, Volatile organic compounds, Reporting and recordkeeping requirements.

Authority: 42 U.S.C. 7401 et seq.

Dated: August 5, 2016.
Alexis Strauss,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(6)(xvi)(D), (c)(35)(xvi)(D), (c)(42)(xxi)(B), (c)(50)(v)(C), (c)(124)(ix)(D), (c)(156)(vi)(B), (c)(162)(i)(B), (c)(164)(i)(B)(4) and (5), (c)(165)(i)(A)(2), (c)(254)(i)(B)(2), (c)(385)(i)(B)(2), and (c)(480)(i)(A) to read as follows:

§ 52.220 Identification of plan—in part.

* * * * *

(c) * * *

(6) * * *

(xvi) * * *

(D) Previously approved on September 22, 1972 in paragraph (c)(6) of this section and now deleted without replacement, Rules 10, 12 and 18.

* * * * *

(35) * * *

(xvi) * * *

(D) Previously approved on August 16, 1978 in paragraph (c)(35)(xvi)(B) of this section and now deleted without replacement, Rule 130.

* * * * *

(42) * * *

(xxi) * * *

(B) Previously approved on December 21, 1978 in paragraph (c)(42)(xxi)(A) of this section and now deleted with replacement in paragraph (c)(164)(i)(B)(4) of this section, Rule 240(e).

* * * * *

(50) * * *

(v) * * *

(C) Previously approved on October 31, 1980 in paragraph (c)(50)(v)(A) of this section and now deleted with replacement in paragraph (c)(164)(i)(B)(4) of this section, Rule 240.

* * * * *

(124) * * *

(ix) * * *

(D) Previously approved on July 31, 1985 in paragraph (c)(124)(ix)(B) of this section and now deleted without replacement, Rule 130 (introductory text, b1, n1, p5, and s2), and now deleted with replacement in paragraphs (c)(481)(i)(A)(3) and (4) of this section, Rules 220(c) and 230.

* * * * *

(156) * * *

(vi) * * *

(B) Previously approved on July 31, 1985 in paragraph (c)(156)(vi)(A) of this section and now deleted without replacement, Rule 130 (b2, m1, p3, p3a, and s7), and now deleted with replacement in paragraph (c)(481)(i)(A)(3) of this section, Chapter II, 220(B).

* * * * *

(162) * * *

(i) * * *

(B) Previously approved on July 31, 1985 in paragraph (c)(162)(i)(A) of this section and now deleted with replacement in paragraph (c)(481)(i)(A)(3) of this section, Rule 220(a).

* * * * *

(164) * * *

(i) * * *

(B) * * *

(4) Rule 240, “Permit to Operate,” adopted on February 22, 1984.

(5) Previously approved on April 17, 1987 in paragraph (c)(164)(i)(B)(1) of this section and now deleted without replacement, Rule 130 (d1 and s5), and now deleted with replacement in paragraph (c)(481)(i)(A)(2) of this section, Rule 200(a).

* * * * *

(165) * * *

(i) * * *

(A) * * *

(2) Previously approved on April 17, 1987 in paragraph (c)(165)(i)(A)(1) of this section and now deleted without replacement, Rule 130 (s4).

* * * * *

(254) * * *

(i) * * *

(B) * * *

(2) Previously approved on February 9, 1999 in paragraph (c)(254)(i)(B)(1) of this section and now deleted without replacement, Rule 130.

* * * * *

(385) * * *

(i) * * *

(B) * * *

(2) Previously approved on May 6, 2011 in paragraph (c)(385)(i)(B)(1) of this section and now deleted with replacement in paragraph (c)(481)(i)(A)(1) of this section, Rule 130, “Definitions,” amended December 14, 2010.

* * * * *

(480) New and amended regulations for the following AQMD was submitted on December 11, 2014 by the Governor's Designee.

(i) Incorporation by Reference.

(A) Northern Sonoma County Air Pollution Control District.

(1) Rule 130, “Definitions,” adopted on November 14, 2014.

(2) Rule 200, “Permit Requirements,” adopted on November 14, 2014.

(3) Rule 220, “New Source Review,” adopted on November 14, 2014.

(4) Rule 230, “Action on Applications,” adopted on November 14, 2014.

§ 52.223 [Amended]

3. Section 52.223 is amended by removing and reserving paragraphs (i)(4), (j)(3), (k)(3), (l)(4), (m)(3), (n)(3), and (o)(3).

§ 52.233 [Amended]

4. Section 52.233 is amended by removing and reserving paragraph (d)(17).

5. Section 52.270 is amended by revising the first sentence in paragraph (b)(4) to read as follows:

§ 52.270 Significant deterioration of air quality.

* * * * *

(b) * * *

(4) The PSD program for Northern Sonoma County Air Pollution Control District, as incorporated by reference in § 52.220(c)(481) is approved under Part C, Subpart 1, of the Clean Air Act. * * *

* * * * *

§ 52.283 [Amended]

6. Section 52.283 is amended by removing and reserving paragraphs (c)(1)(iii), (d)(1)(iii), (e)(2)(iii), (f)(2)(iii), and (g)(1)(iii).

[FR Doc. 2016-23851 Filed 10-5-16; 8:45 am]

BILLING CODE 6560-50-P